NATIONAL AERONAUTICS AND SPACE ADMINISTRATION

[Notice (01-107)]

Notice of Prospective Patent License

AGENCY: National Aeronautics and Space Administration.

ACTION: Notice of prospective patent license.

SUMMARY: NASA hereby gives notice that IntraPace, Inc., of Menlo Park, CA 94025, has applied for a partially exclusive license to practice the invention disclosed in U.S. Patent Application Serial Nos. 09/350,736, entitled, “Advanced Sensor Systems for Biotelemetry” and 09/427,043, entitled “Modular Sensor Signal System” which are both assigned to the United States of America as represented by the Administrator of the National Aeronautics and Space Administration. Written objections to the prospective grant of a license should be sent to Ames Research Center.

DATES: Responses to this notice must be received on or before September 21, 2001.

FOR FURTHER INFORMATION CONTACT: Robert Padilla, Patent Counsel, NASA Ames Research Center, Mail Stop 202A-3, Moffett Field, CA 94035-1000, telephone (650) 604-5104.

Dated: August 28, 2001.
Edward A. Frankle,
General Counsel.

[FR Doc. 01-22364 Filed 9-5-01; 8:45 am]

BILLING CODE 7510-01-P